Title 3—

The President

Executive Order 14338 of August 21, 2025

Improving Our Nation Through Better Design

By the authority vested in me as President by the Constitution and the laws of the United States of America, it is hereby ordered:

Section 1. Purpose and Policy. America has long led the world in innovation, technological advancement, and design. But with a sprawling ecosystem of digital services offered to Americans, the Government has lagged behind in usability and aesthetics. There is a high financial cost to maintaining legacy systems, to say nothing of the cost in time lost by the American public trying to navigate them. It is time to fill the digital potholes across our Nation.

With this order, I am announcing “America by Design,” a national initiative to improve experiences for Americans, starting by breathing new life into the design of sites where people interface with their Government. It is time to update the Government's design language to be both usable and beautiful. This effort will be facilitated by a new National Design Studio and by a new Chief Design Officer. The Chief Design Officer will help recruit top creative talent, coordinate with executive departments and agencies (agencies), and devise innovative solutions.

It is the policy of my Administration to deliver digital and physical experiences that are both beautiful and efficient, improving the quality of life for our Nation. Towards that end, the National Design Studio will advise agencies on how to reduce duplicative design costs, use standardized design to enhance the public's trust in high-impact service providers, and dramatically improve the quality of experiences offered to the American public.

Sec. 2. Establishing America by Design and the National Design Studio. (a) There is established a national initiative, America by Design, to improve comprehensively the visual presentation and usability of Federal services provided to the public in both digital and physical spaces, creating first-class online and offline experiences for Americans.

(b) To help facilitate the America by Design initiative, there is established within the White House Office of the Executive Office of the President the National Design Studio (NDS) and, within the NDS, a new position entitled the Chief Design Officer. The NDS shall be led by an Administrator, who shall report to the Office of the White House Chief of Staff. There is further established within the NDS, in accordance with section 3161 of title 5, United States Code, a temporary organization headed by the NDS Administrator and dedicated to helping advance the America by Design initiative. The temporary organization shall terminate 3 years from the date of this order, but that termination shall not be interpreted to imply the termination, attenuation, or amendment of any other authority or provision of this order.

Sec. 3. Implementing America by Design. (a) Heads of agencies shall consult with the Chief Design Officer to implement the America by Design initiative at their respective agencies and shall produce initial results by July 4, 2026.

(i) Heads of agencies shall prioritize improving websites and physical sites that have a major impact on Americans' everyday lives.

(ii) The Administrator of General Services shall consult with the Chief Design Officer to update the United States Web Design System consistent with the policies set forth in this order.

(iii) Heads of agencies shall consult with the Chief Design Officer to ensure Government-wide compliance with the 21st Century Integrated Digital Experience Act, Public Law 115-336.

(b) The Chief Design Officer shall consult with thought leaders and research and design firms on how best to implement the America by Design initiative. In order to employ the most talented designers of our generation to serve their country, the Chief Design Officer shall help recruit designers and other experts from the private sector as well as other sources of expertise. Heads of agencies shall use all relevant hiring authorities to facilitate this effort, including title IV of the Intergovernmental Personnel Act of 1970, Public Law 91-648, 5 U.S.C. 3371 et seq.

(c) The Chief Design Officer shall consult with the Director of the Office of Management and Budget, as appropriate, in carrying out his or her obligations under this order.

Sec. 4. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

August 21, 2025.

[FR Doc. 2025-16396

Filed 8-25-25; 11:15 am]

Billing code 3395-F4-P